DEPARTMENT OF EDUCATION

National Assessment Governing Board

Assessment Development Committee Meeting

AGENCY: National Assessment Governing Board, Department of Education.

ACTION: Notice of open meeting.

SUMMARY: This notice sets forth the agenda, time, and instructions to access the National Assessment Governing Board's (hereafter referred to as Governing Board or Board) special meeting of the Assessment Development Committee. This notice provides information about the meeting to members of the public who may be interested in attending the meeting and/or providing written comments related to the work of the Governing Board. The meeting will be held virtually, as noted below. Members of the public must request registration information by sending an email to nagb@ed.gov no later than two business days prior to the meeting.

DATES: The Assessment Development Committee meeting will be held on the following date:

• January 26, 2024, from 3-3:15 p.m., EDT

FOR FURTHER INFORMATION CONTACT: Angela Scott, Designated Federal Official (DFO) for the Governing Board, 800 North Capitol Street NW, Suite 825, Washington, DC 20002, telephone: (202) 357-7502, fax: (202) 357-6945, email: Angela.Scott@ed.gov.

SUPPLEMENTARY INFORMATION: Statutory Authority and Function: The Governing Board is established under the National Assessment of Educational Progress Authorization Act, (20 U.S.C. 9621). Information on the Governing Board and its work can be found at www.nagb.gov. Notice of the meeting is required under section 1009(a)(2) of 5 U.S.C. chapter 10 (Federal Advisory Committees).

The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Assessment Development Committee Meeting

The Assessment Development Committee will meet virtually on January 26th from 3-3:15 p.m. ET to take action on the Assessment and Item Specifications for the 2028 NAEP Science Assessment Framework.

Governing Board policy articulates the Board's commitment to a comprehensive, inclusive, and deliberative process to determine and update the content and format of all NAEP assessments. For each NAEP assessment, this process results in a NAEP framework, outlining what is to be measured and how it will be measured. Periodically, the Governing Board reviews existing NAEP frameworks to determine if changes are warranted. Each NAEP framework development and update process considers a wide set of factors, including but not limited to reviews of recent research on teaching and learning, changes in state and local standards and assessments, and the latest perspectives on the nation's future needs and desirable levels of achievement.

In 2021, the Board initiated a preliminary review of the NAEP Science Framework, which included an initial public comment on whether and how the framework should be updated as well as expert commentary to determine the type of updates needed. In May 2022, the Governing Board formally decided to initiate an update to the NAEP Science Framework and issued a Board Charge providing guidance to the panels of experts who were tasked with developing the framework recommendations. Public comment on draft framework recommendations was sought in March-April 2023 and feedback was incorporated. The Governing Board adopted the 2028 NAEP Science Assessment Framework during its November 2023 quarterly meeting.

The Science Assessment and Item Specifications document provides additional technical and operational details for implementing the framework. During the November 2023 quarterly Board meeting, the Governing Board delegated authority for adopting the Science Assessment and Item Specifications to the Assessment Development Committee.

Minutes of prior Governing Board and Assessment Development Committee meetings are available at https://www.nagb.gov/governing-board/quarterly-board-meetings.html.

Instructions for Accessing and Attending the Meetings: Registration: Members of the public may attend the January 26 Assessment Development Committee meeting virtually. A request for registration information should be sent to nagb@ed.gov no later than January 24.

Public Comment: Written comments related to the work of the Governing Board and its standing committees may be submitted to the attention of the DFO no later than 10 business days prior to the meeting. Written comments may be submitted either via email to Angela.Scott@ed.gov or in hard copy to the address listed above.

Access to Records of the Meeting: Pursuant to 5 U.S.C. 1009, the public may inspect the meeting materials, which will be made available upon request no later than five business days prior to each meeting. The public may also inspect the meeting materials and other Governing Board records at 800 North Capitol Street NW, Suite 825, Washington, DC 20002, by emailing Angela.Scott@ed.gov to schedule an appointment.

Reasonable Accommodations: The meeting is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U. S. Department of Education.

[FR Doc. 2023-28789 Filed 12-28-23; 8:45 am]

BILLING CODE 4000-01-P